DEPARTMENT OF COMMERCE

National Oceanic and Atmospheric Administration

50 CFR Part 679

[Docket No. 010112013-1013-01; I.D. 032901B]

Fisheries of the Exclusive Economic Zone Off Alaska; Pollock Within the Shelikof Strait Conservation Area in the Gulf of Alaska

AGENCY: National Marine Fisheries Service (NMFS), National Oceanic and Atmospheric Administration (NOAA), Commerce.

ACTION: Closure.

SUMMARY: NMFS is prohibiting directed fishing for pollock within the Shelikof Strait conservation area in the Gulf of Alaska (GOA). This action is necessary to prevent exceeding the B season allowance of the pollock total allowable catch (TAC) for the Shelikof Strait conservation area in the GOA.

DATES: Effective 1200 hrs, Alaska local time (A.l.t.), March 31, 2001, until 1200 hrs, A.l.t., August 20, 2001.

FOR FURTHER INFORMATION CONTACT: Mary Furuness, 907-586-7228

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

Within any fishing year, under harvest or over harvest of a seasonal allowance may be added to or subtracted from the subsequent seasonal allowances in a manner to be determined by the Administrator, Alaska Region (Regional Administrator), NMFS, so long as a revised seasonal allowance does not exceed 30 percent of the annual TAC apportionment (§ 679.20(a)(5)(ii)(C)). The combined A and B season allowance of the pollock TAC within the Shelikof Strait conservation area is 18,619 metric tons (mt) as established by the Final 2001 Harvest Specifications and Associated Management Measures for the Groundfish Fisheries Off Alaska (66 FR 7276, January 22, 2001). The Regional Administrator hereby increases the B season pollock TAC by 6,207 mt, the maximum amount of the A season pollock under harvest that can be added to the B season TAC without exceeding 30 percent of the annual TAC. In accordance with § 679.20(a)(5)(ii)(C), the B season allowance of pollock TAC within the Shelikof Strait conservation area is 12,413 mt.

In accordance with § 679.20(d)(1)(i), Regional Administrator has determined that the B season allowance of the pollock TAC within the Shelikof Strait conservation area will soon be reached. Therefore, the Regional Administrator is establishing a directed fishing allowance of 12,113 mt, and is setting aside the remaining 300 mt as bycatch to support other anticipated groundfish fisheries. In accordance with § 679.22(b)(3)(iii)(A), the Regional Administrator finds that this directed fishing allowance will soon be reached. Consequently, NMFS is prohibiting directed fishing for pollock within the Shelikof Strait conservation area in the GOA.

Maximum retainable bycatch amounts may be found in the regulations at § 679.20(e) and (f).

Classification

This action responds to the best available information recently obtained from the fishery. The Assistant Administrator for Fisheries, NOAA, finds that the need to immediately implement this action to prevent exceeding the seasonal allocation of pollock within the Shelikof Strait conservation area constitutes good cause to waive the requirement to provide prior notice and opportunity for public comment pursuant to the authority set forth at 5 U.S.C. 553(b)(3)(B) and 50 CFR 679.20(b)(3)(iii)(A), as such procedures would be unnecessary and contrary to the public interest. Similarly, the need to implement these measures in a timely fashion to prevent exceeding the seasonal allocation of pollock within the Shelikof Strait conservation area constitutes good cause to find that the effective date of this action cannot be delayed for 30 days. Accordingly, under 5 U.S.C. 553(d), a delay in the effective date is hereby waived.

This action is required by § 679.20 and is exempt from review under Executive Order 12866.

Authority: 16 U.S.C. 1801 et seq.

Dated: March 29, 2001.
Bruce C. Morehead.
Acting Director, Office of Sustainable Fisheries, National Marine Fisheries Service

[FR Doc. 01-8281 Filed 3-30-01; 2:51 pm]

BILLING CODE 3510-04-S